DEPARTMENT OF THE TREASURY

Office of Foreign Assets Control

31 CFR Part 575

Iraqi Sanctions Regulations

AGENCY: Office of Foreign Assets Control, Treasury.

ACTION: Final rule.

SUMMARY: The Department of the Treasury's Office of Foreign Assets Control (“OFAC”) is implementing Executive Order 13350 of July 29, 2004, which terminated the national emergency declared with respect to Iraq in Executive Order 12722 of August 2, 1990, and revoked that and subsequent Executive orders, by removing the Iraqi Sanctions Regulations from the Code of Federal Regulations.

DATES: Effective Date: September 13, 2010.

FOR FURTHER INFORMATION CONTACT: Assistant Director for Compliance, Outreach & Implementation, tel.: 202/622-2490, Assistant Director for Licensing, tel.: 202/622-2480, Assistant Director for Policy, tel.: 202/622-4855, or Chief Counsel (Foreign Assets Control), tel.: 202/622-2410 (not toll free numbers).

SUPPLEMENTARY INFORMATION:

Electronic and Facsimile Availability

This document and additional information concerning OFAC are available from OFAC's Web site (http://www.treas.gov/ofac). Certain general information pertaining to OFAC's sanctions programs also is available via facsimile through a 24-hour fax-on-demand service, tel.: 202/622-0077.

Background

As a result of the removal of the regime of Saddam Hussein and other developments in Iraq, the President issued Executive Order 13350 on July 29, 2004 (69 FR 46055, July 30, 2004). Executive Order 13350 terminated the national emergency declared with respect to Iraq in Executive Order 12722 of August 2, 1990. In addition, Executive Order 13350 revoked Executive Order 12722, Executive Order 12724 of August 9, 1990, Executive Order 12743 of January 18, 1991, Executive Order 12751 of February 14, 1991, and Executive Order 12817 of October 21, 1992. These Executive orders were all in furtherance of the national emergency declared in Executive Order 12722.

In Executive Order 12722, the President ordered the blocking of all property and interests in property that were in the United States or that came within the possession or control of United States persons, including overseas branches, of the Government of Iraq, its agencies, instrumentalities, and controlled entities, and the Central Bank of Iraq (55 FR 31803, August 3, 1990). Executive Order 12722 prohibited the importation of any goods or services of Iraqi origin into the United States and the exportation of any goods, technology, or services from the United States to Iraq. Executive Order 12722 also prohibited transactions relating to transportation and travel to or from Iraq by United States citizens or permanent resident aliens. The subsequent Executive orders took various additional steps with respect to the situation in Iraq.

Section 207(a) of the International Emergency Economic Powers Act (“IEEPA”) (50 U.S.C. 1706(a)) contains a provision that allows the President to continue to prohibit transactions involving property in which a foreign country or national thereof has an interest after a national emergency has been terminated if the President determines that the continuation of such a prohibition with respect to that property is necessary on account of claims involving such country or its nationals. Pursuant to section 207(a) of IEEPA, the President determined in Section 1 of Executive Order 13350 that continuation of prohibitions with regard to transactions involving property blocked pursuant to Executive Orders 12722 or 12724 that continued to be blocked as of July 30, 2004, was necessary on account of claims involving Iraq. The new Iraq Stabilization and Insurgency Sanctions Regulations, 31 CFR part 576, include a general license unblocking all remaining property blocked pursuant to Section 1 of Executive Order 13350. See 31 CFR 576.510.

Please note that certain transactions relating to Iraq remain subject to the Iraq Stabilization and Insurgency Regulations, 31 CFR part 576, which implement Executive Order 13303 of May 22, 2003, Executive Order 13315 of August 28, 2003, Executive Order 13350 of July 29, 2004, Executive Order 13364 of November 29, 2004, and Executive Order 13438 of July 17, 2007.

Accordingly, OFAC is removing the Iraqi Sanctions Regulations (the “Regulations”) in 31 CFR part 575. The removal of part 575 from 31 CFR chapter V does not affect ongoing enforcement proceedings or prevent the initiation of enforcement proceedings where the relevant statute of limitations has not run.

Executive Order 12866, Administrative Procedure Act, and Regulatory Flexibility Act

Because the Regulations involve a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The Paperwork Reduction Act does not apply because this rule does not impose information collection requirements that would require the approval of the Office of Management and Budget under 44 U.S.C. 3501 et seq.

List of Subjects in 31 CFR Part 575

Administrative practice and procedure, Banks, Banking, Blocking of assets, Exports, Foreign trade, Imports, Iraq, Oil imports, Penalties, Petroleum, Petroleum products, Reporting and recordkeeping requirements, Specially designated nationals, Terrorism, Travel restrictions.

PART 575—[REMOVED]

Pursuant to 50 U.S.C. 1701 et seq. and Executive Order 13350, the Office of Foreign Assets Control amends 31 CFR chapter V by removing part 575 for the reasons set forth in the preamble.

Dated: September 1, 2010.
Adam J. Szubin,
Director, Office of Foreign Assets Control, Department of the Treasury.
Approved: September 2, 2010.
Stuart A. Levey,
Under Secretary, Office of Terrorism and Financial Intelligence, Department of the Treasury.

[FR Doc. 2010-22548 Filed 9-10-10; 8:45 am]

BILLING CODE 4810-AL-P